DEPARTMENT OF STATE

[Public Notice 6714]

Determination Pursuant to Section 451 of the Foreign Assistance Act Relating to the Guatemala and Dominican Republic Helicopter Programs

Pursuant to section 451 of the Foreign Assistance Act of 1961, as amended (the “Act”), section 1-100 of Executive Order 12163, as amended, and Delegation of Authority 245-1, I hereby authorize, notwithstanding any other provision of law, the use of up to $20,000,000 in FY 2008 funds appropriated for counternarcotics activities in the Andean region of South America under chapter 8 of part I of the Act, in order to provide assistance authorized by part I of the Act for the countries of Guatemala and the Dominican Republic.

This Determination shall be reported to the Congress promptly and published in the Federal Register.

Dated: July 15, 2009.
Jacob L. Lew,
Deputy Secretary of State, Department of State.

[FR Doc. E9-18224 Filed 7-29-09; 8:45 am]

BILLING CODE 4710-17-P